DEPARTMENT OF ENERGY

Federal Energy Regulatory Commission

Combined Notice of Filings #1

Take notice that the Commission received the following exempt wholesale generator filings:

Docket Numbers: EG18-96-000.

Applicants: Rush Springs Energy Storage, LLC.

Description: Notice of Self-Certification of Exempt Wholesale Generator Status of Rush Springs Energy Storage, LLC.

Filed Date: 6/6/18.

Accession Number: 20180606-5035.

Comments Due: 5 p.m. ET 6/27/18.

Take notice that the Commission received the following electric rate filings:

Docket Numbers: ER18-1222-002.

Applicants: PSEG Energy Resources & Trade LLC.

Description: Tariff Amendment: Amendment to Filing in Docket ER18-1222 to be effective 6/7/2018.

Filed Date: 6/6/18.

Accession Number: 20180606-5002.

Comments Due: 5 p.m. ET 6/27/18.

Docket Numbers: ER18-1594-001.

Applicants: Public Service Company of Colorado.

Description: Compliance filing: OATT_LGIA-SGIA Order 842 Compl-Att N-P to be effective 5/15/2018.

Filed Date: 6/6/18.

Accession Number: 20180606-5030.

Comments Due: 5 p.m. ET 6/27/18.

Docket Numbers: ER18-1747-000.

Applicants: Southwest Power Pool, Inc.

Description: § 205(d) Rate Filing: 1518R15 Arkansas Electric Cooperative Corp NITSA NOA to be effective 7/1/2018.

Filed Date: 6/5/18.

Accession Number: 20180605-5132.

Comments Due: 5 p.m. ET 6/26/18.

Docket Numbers: ER18-1748-000.

Applicants: Elk City II Wind, LLC.

Description: Tariff Cancellation: Elk City II Wind, LLC Notice of Cancellation of Market-Based Rate Tariff to be effective 6/6/2018.

Filed Date: 6/5/18.

Accession Number: 20180605-5149.

Comments Due: 5 p.m. ET 6/26/18.

Docket Numbers: ER18-1749-000.

Applicants: PJM Interconnection, L.L.C.

Description: Tariff Cancellation: Notice of Cancellation of Service Agreement No. 4772; Queue No. AC1-013 to be effective 7/2/2018.

Filed Date: 6/6/18.

Accession Number: 20180606-5092.

Comments Due: 5 p.m. ET 6/27/18.

Docket Numbers: ER18-1750-000.

Applicants: ITC Midwest LLC.

Description: § 205(d) Rate Filing: Filing of a Master JUA for Distribution Underbuild with Midland Power Coop to be effective 8/6/2018.

Filed Date: 6/6/18.

Accession Number: 20180606-5093.

Comments Due: 5 p.m. ET 6/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2018.
Nathaniel J. Davis, Sr.,
Deputy Secretary.

[FR Doc. 2018-12581 Filed 6-11-18; 8:45 am]

BILLING CODE 6717-01-P